ENVIRONMENTAL PROTECTION AGENCY

[OPP-2005-0201; FRL-7726-4]

Cancellation of Pesticides for Non-payment of Year 2005 Registration Maintenance Fees

AGENCY: Environmental Protection Agency (EPA).

ACTION: Notice.

SUMMARY: Since the amendments of October 1988, the Federal Insecticide, Fungicide, and Rodenticide Act (FIFRA) has required payment of an annual maintenance fee to keep pesticide registrations in effect. The fee due January 15, 2005 has gone unpaid for 831 registrations. Section 4(i)(5)(G) of FIFRA provides that the Administrator may cancel these registrations by order and without a hearing; orders to cancel all 831 of these registrations have been issued within the past few days.

FOR FURTHER INFORMATION CONTACT: For further information on the maintenance fee program in general, contact by mail: John Jamula, Office of Pesticide Programs (7504C), Environmental Protection Agency, 1200 Pennsylvania Avenue NW., Washington, DC 20460; telephone number: (703) 305-6426; e-mail address: jamula.john@epa.gov.

SUPPLEMENTARY INFORMATION:

I. Important Information

A. Does this Apply to Me?

You may be potentially affected by this notice if you are an EPA registrant with any approved product registration(s). Although this action may be of particular interest to persons who produce or use pesticides, the Agency has not attempted to describe all the specific entities that may be affected by this action. If you have any questions regarding the information in this notice, consult the person listed in the For Further Information Contact section.

B. How Can I Get Copies of this Document and Other Related Information?

1. Docket. EPA has established an official public docket for this action under docket identification (ID) number OPP-2005-0201. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Introduction

Section 4(i)(5) of FIFRA as amended in October 1988 (Public Law 100-532), December 1991 (Public Law 102-237), and again in August 1996 (Public Law 104-170), requires that all pesticide registrants pay an annual registration maintenance fee, due by January 15 of each year, to keep their registrations in effect. This requirement applies to all registrations granted under section 3 as well as those granted under section 24(c) to meet special local needs. Registrations for which the fee is not paid are subject to cancellation by order and without a hearing.

The Food, Agriculture, Conservation, and Trade Act Amendments of 1991, Public Law 102-237, amended FIFRA to allow the Administrator to reduce or waive maintenance fees for minor agricultural use pesticides when he determines that the fee would be likely to cause significant impact on the availability of the pesticide for the use. The Agency has waived the fee for 157 minor agricultural use registrations at the request of the registrants.

In fiscal year 2005, maintenance fees were collected in one billing cycle. The Pesticide Registration Improvement Act (PRIA) was passed by Congress in January 2004. PRIA became effective in March 2004 and authorized the Agency to collect $27 million in maintenance fees in fiscal year 2005. In late December 2004, all holders of either section 3 registrations or section 24(c) registrations were sent lists of their active registrations, along with forms and instructions for responding. They were asked to identify which of their registrations they wished to maintain in effect, and to calculate and remit the appropriate maintenance fees. Most responses were received by the statutory deadline of January 15. A notice of intent to cancel was sent in mid-February to companies that did not respond and to companies that responded, but paid for less than all of their registrations. Since mailing the notices, EPA has maintained a toll-free inquiry number through which the questions of affected registrants have been answered.

Maintenance fees have been paid for about 15,460 section 3 registrations, or about 96 percent of the registrations on file in December. Fees have been paid for about 2,270 section 24(c) registrations, or about 83 percent of the total on file in December. Cancellations for non-payment of the maintenance fee affect about 503 Section 3 registrations and about 328 Section 24(c) registrations.

The cancellation orders generally permit registrants to continue to sell and distribute existing stocks of the canceled products until January 15, 2006, one year after the date on which the fee was due. Existing stocks already in the hands of dealers or users, however, can generally be distributed, sold or used legally until they are exhausted. Existing stocks are defined as those stocks of a registered pesticide product which are currently in the United States and which have been packaged, labeled and released for shipment prior to the effective date of the action.

The exceptions to these general rules are cases where more stringent restrictions on sale, distribution, or use of the products have already been imposed, through Special Reviews or other Agency actions. These general provisions for disposition of stocks should serve in most cases to cushion the impact of these cancellations while the market adjusts.

III. Listing of Registrations Canceled for Non-payment

Table 1 lists all of the Section 24(c)registrations, and Table 2 Lists all of the Section 3 registrations which were canceled for non-payment of the 2005 maintenance fee. These registrations have been canceled by order and without hearing. Cancellation orders were sent to affected registrants via certified mail in the past several days. The Agency is unlikely to rescind cancellation of any particular registration unless the cancellation resulted from Agency error.

Section 24(c) Registrations canceled for non-payment of the 2005 maintenance fee are shown in the following Table 1:

Table 1.—Section 24(c) Registrations Canceled for Non-Payment of Maintenance Fee
SLN no. | Product Name
000279 AL-03-0002 | Pounce 3.2 EC Insecticide
000352 AR-00-0003 | Dupont Lannate LV Insecticide
000352 AR-00-0004 | Dupont Lannate SP Insecticide
000100 AR-01-0002 | Cyclone Concentrate/Gramoxone Max
000279 AR-03-0002 | Command 3ME Microencapsulated Herbicide
000279 AR-04-0002 | Command 3ME Microencapsulated Herbicide
000279 AR-83-0020 | Pounce 3.2 EC
071649 AR-98-0002 | Baytex Liquid Concentrate Insecticide
000100 AZ-00-0004 | Fulfill
071058 AZ-03-0001 | Treflan H.F.P.
000100 AZ-03-0008 | Eptam 7-E Selective Herbicide
000100 AZ-03-0009 | Eptam 7-E Selective Herbicide
000264 AZ-04-0001 | Phaser 3EC Insecticide
000279 AZ-84-0006 | Ammo 2.5 EC Insecticide
000264 AZ-85-0007 | Di-Syston 8
010163 AZ-93-0013 | Gowan Endosulfan 3 EC
000279 AZ-98-0002 | Pounce 3.2 EC Insecticide
000264 AZ-98-0005 | Phaser 3EC Insecticide
004581 AZ-98-0009 | Desicate II
000264 AZ-99-0006 | Admire 2 Flowable
010163 CA-01-0010 | Supracide 25W
010163 CA-01-0019 | Savey 2E
010163 CA-02-0009 | Savey 2E
000100 CA-02-0012 | Cyclone Concentrate/Gramoxone Max
000264 CA-76-0194 | Ethrel Plant Regulator
000100 CA-77-0159 | Ordram 8-E An Emulsufiable Liquid Herbicide
002935 CA-77-0396 | Red-Top Malathion 8 Spray
002935 CA-82-0063 | Wilbur-Ellis Malathion 8 Spray
000100 CA-84-0172 | Ordram 8-E An Emulsufiable Liquid Herbicide
000100 CA-85-0053 | Ordram 8-E An Emulsufiable Liquid Herbicide
060202 CA-86-0023 | Pro-Gibb 4% Liquid Concentrate
004581 CA-87-0031 | Des -I- Cate
062719 CA-89-0012 | Goal 1.6E Herbicide
000264 CA-89-0014 | Bayleton 25% Wettable Powder
060372 CA-89-0045 | Vectobac-12AS
000264 CA-89-0056 | Buctril Herbicide
000100 CA-90-0039 | Eptam 7-E
002935 CA-91-0014 | Nu-Zone 10ME
000100 CA-91-0024 | Gramoxone Extra Herbicide
000100 CA-91-0036 | Gramoxone Extra Herbicide
000264 CA-92-0027 | Bayleton 25% Wettable Powder
008536 CA-93-0001 | Methyl Bromide 99.5%
062719 CA-95-0007 | Goal 1.6E Herbicide
069351 CA-95-0009 | Lorsban-4E
019713 CA-97-0035 | Drexel Diazinon Insecticide
002935 CA-99-0005 | Cygon 400 Systemic Insecticide-Miticide
000100 CA-99-0025 | Barricade 65WG Herbicide
000100 CA-99-0028 | Reward Landscape and Aquatic Herbicide
000100 CO-00-0008 | Dividend XL
010163 CO-01-0004 | Savey 2E
000524 CO-02-0006 | Roundup Herbicide
000524 CO-02-0007 | Roundup Herbicide
000264 CO-94-0004 | Rovral 4 Flowable Fungicide
000264 CO-99-0005 | Epic DF Herbicide
061282 CT-02-0005 | Ramik Brown
000241 CT-99-0001 | Acrobat MZ Fungicide
000400 DE-04-0003 | Acramite 50WS
000279 FL-83-0019 | Pounce 3.2 EC Insecticide
060182 FL-87-0003 | Avid
060182 FL-91-0011 | Orthene 75 S Soluble Powder
002393 FL-92-0008 | Hopkins Sevin Carbaryl Bait
062719 FL-92-0009 | Lorsban 50W Insecticide In Water Soluble Packets
000241 FL-94-0004 | Arsenal Herbicide
067760 FL-95-0007 | Fyfanon ULV
067858 FL-97-0001 | Baytex Liquid Concentrate Insecticide
063935 FL-97-0004 | Dupont Escort Herbicide
061282 GA-95-0007 | Ramik Brown
068573 GU-04-0002 | Fosphite Fungicide
000264 HI-02-0002 | Provado 1.6 Flowable Insecticide
000264 HI-92-0001 | Nemacur 3
000264 HI-92-0002 | Nemacur 15% Granular
000264 HI-92-0003 | Bayleton 50% Wettable Powder Fungicide
000264 HI-96-0006 | Florel Plant Growth Regulator
000524 IA-03-0001 | Mon 78270 Herbicide
010163 ID-00-0004 | Savey 2E
010163 ID-01-0012 | Savey 2E
000264 ID-01-0014 | Admire 2 Flowable
000264 ID-01-0018 | Admire 2 Flowable
051036 ID-02-0017 | Endosulfan 3 EC
000524 ID-02-0023 | Mon 78112 Herbicide
000264 ID-02-0024 | Ignite 1SC Herbicide
000279 ID-04-0001 | Spartan Herbicide
066330 ID-04-0005 | Everest 70% Water Dispersible Granular Herbicide
004581 ID-87-0015 | Des-I-Cate
004581 ID-87-0019 | Des-I-Cate
061282 ID-87-0022 | Ramik Brown
000400 ID-95-0014 | Omite-Cr (Not for Use In California)
061282 ID-96-0005 | Ramik Green
002935 ID-97-0012 | Cygon 400 Systemic Insecticide-Miticide
007173 ID-98-0015 | Rozol Pellets
000100 ID-99-0011 | Tough 5 EC
000100 ID-99-0015 | Dividend XL
000279 IL-98-0002 | Furadan 4F Insecticide/nematicide
010163 IL-99-0003 | Imidan 70-WP Agricultural Insecticide
000279 IN-01-0002 | Pounce 3.2 EC Insecticide
004581 IN-80-0008 | Hydrothol 191
000241 IN-99-0001 | Acrobat MZ Fungicide
000279 KY-01-0001 | Pounce 3.2 EC Insecticide
004581 LA-00-0010 | Penncap-M Microencapsulated Insecticide
000264 LA-00-0017 | Aztec 2.1% G
000279 LA-03-0005 | Pounce 3.2 EC Insecticide
059639 LA-94-0005 | Select 2EC Herbicide
062719 LA-96-0006 | Tenure
062719 LA-97-0003 | Recruit AG
000264 LA-97-0007 | Bayleton 50% Wettable Powder
000264 LA-98-0001 | Aztec 2.1% Granular
061282 MA-77-0001 | Ramik Brown
059639 MA-96-0002 | Orthene 75 S Soluble Powder
059639 MA-96-0003 | Orthene 75 WSP (insecticide In A Water Soluble Bag)
004564 MD-00-0002 | Tolcide PS200
004564 MD-04-0002 | Tolcide PS200
000400 ME-79-0001 | Terraclor 75% Wettable Powder
065136 ME-91-0005 | Carboxide Sterilant-Fumigant Gas
000264 MI-00-0002 | Admire 2 Flowable
053689 MI-04-0006 | Rose Chafer Floral Lure
000264 MI-78-0016 | Monitor 4
061282 MI-84-0012 | Ramik Green
000264 MI-96-0010 | Aliette WDG Fungicide
000100 MI-99-0003 | Tilt Fungicide
000524 MN-02-0008 | Mon 78112 Herbicide
000524 MN-03-0005 | Roundup Weathermax Herbicide
066330 MN-04-0004 | Everest 70% Water Dispersible Granular Herbicide
000100 MN-04-0005 | Callisto
000100 MN-99-0012 | Dividend XL
000279 MO-03-0001 | Command 3ME Microencapsulated Herbicide
000279 MO-04-0005 | Command 3ME Microencapsulated Herbicide
007173 MO-78-0001 | Rozol Paraffinized Pellets
061282 MO-97-0002 | Ramik Green
000264 MS-00-0013 | Aztec 2.1% G
000279 MS-03-0002 | Command 3ME Microencapsulated Herbicide
062719 MS-92-0010 | Dursban TC
000228 MS-93-0004 | Riverdale MCPA-4 Amine
000228 MS-93-0005 | Riverdale Weedestroy (r) MCPA Low Volatile Ester
000279 MS-97-0008 | Dragnet FT Termiticide
000264 MS-98-0006 | Aztec 2.1% Granular
000279 MS-98-0011 | Prevail TC Termiticide
010163 MT-00-0005 | Savey 2e
000524 MT-02-0003 | Roundup Herbicide
000524 MT-02-0004 | Mon 78112 Herbicide
000100 MT-03-0006 | Dividend XL
061282 MT-79-0022 | Ramik Brown
061282 MT-86-0003 | Ramik Green
000352 MT-94-0001 | Dupont Velpar L Herbicide
010163 MT-96-0002 | Metasystox-R Spray Concentrate
002935 MT-97-0001 | Cygon 400 Systemic Insecticide-Miticide
000100 MT-99-0009 | Tough 5 EC
000264 NC-82-0007 | Amchem Ethrel Plant Regulator
061282 NC-92-0010 | Ramik Brown
007969 NC-93-0001 | Basamid Granular Soil Fumigant
019713 NC-95-0004 | Drexel Dimethoate 4EC
007969 ND-00-0008 | Ronilan DF Fungicide
000524 ND-01-0001 | Mon 78112 Herbicide
000264 ND-01-0003 | Stratego Fungicide
000524 ND-02-0011 | Roundup Herbicide
066330 ND-04-0002 | Everest 70% Water Dispersible Granular Herbicide
000100 ND-04-0003 | Callisto Herbicide
000279 ND-85-0006 | Furadan 15 G Insecticide Nematicide
000264 ND-93-0005 | Sencor DF 75% Dry Flowable Herbicide
000100 ND-98-0002 | Tilt Fungicide
000100 ND-99-0009 | Tough 5 EC
000100 NE-01-0002 | Tough 5 EC
000524 NE-02-0004 | Mon 78112 Herbicide
061282 NH-76-0001 | Ramik Brown
000352 NJ-03-0005 | Curzate 60DF
000279 NM-84-0006 | Pounce 3.2 EC Insecticide
000279 NM-86-0002 | Ammo 2.5 EC Insecticide
010163 NV-00-0002 | Savey 2E
000279 NV-04-0001 | Spartan Herbicide
004581 NV-87-0008 | Des-I-Cate
061282 NV-88-0008 | Ramik Green
000100 NV-95-0002 | Fusilade DX
075710 NY-04-0006 | Mite Away II Formic Acid Pads
063806 NY-99-0001 | Dual Magnum Herbicide
007173 OH-79-0013 | Rozol Paraffinized Pellets
000279 OH-83-0002 | Furadan 15 G Insecticide-Nematicide
061282 OH-84-0003 | Ramik Green
000100 OH-90-0006 | Gramoxone Extra Herbicide
062719 OH-97-0005 | Recruit AG
000100 OH-98-0002 | Tilt Fungicide
000100 OH-99-0001 | Dual Magnum Herbicide
059639 OK-80-0012 | Orthene 75 S Soluble Powder
000100 OR-00-0012 | Orbit Fungicide
000100 OR-00-0014 | Fulfill
000100 OR-00-0015 | Fulfill
000400 OR-00-0021 | Dimilin 2l
000100 OR-01-0007 | Discover Herbicide
010163 OR-01-0009 | Savey 2E
000100 OR-01-0011 | Cyclone Concentrate/gramoxone Max
036029 OR-01-0013 | Wilco Ground Squirrel Bait
000264 OR-01-0014 | Admire 2 Flowable
000264 OR-01-0031 | Hoelon 3EC Herbicide
000264 OR-01-0032 | Bronate Herbicide
000264 OR-02-0001 | Axiom DF Herbicide
000400 OR-02-0009 | Dimilin 2l
000264 OR-02-0010 | Rovral (r) Brand 4 Flowable Fungicide
000264 OR-02-0013 | Aliette(r) WDG Fungicide
010163 OR-02-0017 | Savey 2E
000524 OR-02-0020 | Mon 78112 Herbicide
000264 OR-02-0022 | Ignite 1SC Herbicide
000100 OR-03-0035 | Dividend XL
004581 OR-03-0036 | Des-I-Cate
000279 OR-04-0024 | Spartan Herbicide
000264 OR-04-0032 | Admire 2 Flowable
000279 OR-04-0035 | Z-Cype 0.8 EC Insecticide
061282 OR-76-0036 | Ramik Brown
000400 OR-77-0013 | Comite Agricultural Miticide
000400 OR-79-0034 | Comite Agricultural Miticide
000100 OR-80-0100 | Aatrex Nine-0
000100 OR-81-0080 | Princep Caliber 90 Herbicide
000400 OR-91-0009 | Omite 6E
000400 OR-91-0019 | Comite Agricultural Miticide
000400 OR-94-0012 | Comite Agricultural Miticide
000400 OR-94-0013 | Comite Agricultural Miticide
067837 OR-94-0021 | Omite-CR Agricultural Miticide
000100 OR-95-0014 | Fusilade DX
019713 OR-95-0032 | Ida, Inc. Diuron 80W
000100 OR-96-0007 | Tilt Gel Fungicide
000400 OR-97-0012 | Comite Agricultural Miticide
002935 OR-97-0019 | Cygon 400 Systemic Insecticide-Miticide
000100 OR-98-0013 | Agri-Mek 0.15 EC Miticide/insecticide
000100 OR-98-0015 | Caparol 4l Herbicide
000100 OR-99-0011 | Dual Magnum Herbicide
000352 OR-99-0023 | Velpar L Herbicide
000352 OR-99-0024 | Velpar DF Herbicide
000100 OR-99-0027 | Dual Magnum Herbicide
000100 OR-99-0028 | Tough 5 EC
000100 OR-99-0035 | Dual Magnum Herbicide
000100 OR-99-0042 | Dual Magnum Herbicide
000100 OR-99-0050 | Dual Magnum Herbicide
000100 OR-99-0052 | Dividend XL
000352 PA-03-0007 | Curzate 60DF
071711 PA-04-0002 | Applaud 70WP Insect Growth Regulator
061282 PA-85-0005 | Ramik Green
000264 RI-01-0001 | Admire 2 Flowable
000279 SC-03-0007 | Pounce 3.2 EC Insecticide
007969 SC-93-0003 | Basamid Granular Soil Fumigant
000264 SC-95-0002 | Nemacur 3
061282 SC-96-0002 | Ramik Brown
062719 SC-97-0004 | Recruit AG
000524 SD-01-0006 | Mon 78112 Herbicide
000100 SD-96-0002 | Princep Caliber 90 Herbicide
000100 SD-96-0003 | Princep 4l Herbicide
000100 TN-00-0003 | Gramoxone Extra Herbicide
000100 TN-01-0001 | Cyclone Concentrate/gramoxone Max
000100 TN-01-0002 | Cyclone Concentrate/gramoxone Max
000279 TN-02-0003 | Pounce 3.2 EC Insecticide
000279 TN-03-0001 | Pounce 3.2 EC Insecticide
062719 TN-04-0027 | Lock-On
059639 TN-93-0003 | Monitor 4 Spray
000264 TN-96-0006 | Monitor 4
059639 TN-98-0001 | Orthene 75 S Soluble Powder
000100 TX-00-0007 | Cyclone Concentrate/gramoxone Max
000264 TX-00-0008 | Aztec 2.1% G
000264 TX-01-0002 | Admire 2 Flowable
051036 TX-01-0013 | Micro Flo Diazinon 14G
000241 TX-01-0016 | Amdro Fire Ant Insecticide
000279 TX-03-0001 | Pounce 3.2 EC Insecticide
000279 TX-83-0032 | Pounce 3.2 EC
000100 TX-96-0006 | Fusilade Dx Herbicide
067760 TX-96-0009 | Fyfanon ULV
000100 TX-96-0015 | Reflex Herbicide
000264 TX-97-0002 | Aztec 2.1% Granular
000100 TX-99-0001 | Reward Landscape and Aquatic Herbicide
000100 TX-99-0008 | Dual Magnum Herbicide
000100 TX-99-0009 | Dual Magnum Herbicide
005481 UT-00-0005 | Amvac AZA 3% EC
061282 UT-87-0003 | Ramik Brown
061282 VA-85-0003 | Ramik Green
000100 VA-96-0007 | Gramoxone Extra Herbicide
007173 VT-76-0003 | Rozol Paraffinized Pellets
061282 VT-86-0003 | Ramik Green
000264 WA-00-0015 | Admire 2 Flowable
000264 WA-00-0023 | Phaser 3EC Insecticide
000100 WA-00-0027 | Diquat Herbicide
000264 WA-00-0028 | Carzol SP Miticide/Insecticide in Water Soluble Packaging
010163 WA-01-0005 | Metasystox-R Spray Concentrate
000100 WA-01-0011 | Cyclone Concentrate/Gramoxone Max
000100 WA-01-0013 | Cyclone Concentrate/Gramoxone Max
000100 WA-01-0014 | Cyclone Concentrate/Gramoxone Max
000264 WA-01-0024 | Admire 2 Flowable
010163 WA-01-0027 | Savey 2E
010163 WA-01-0028 | Imidan 70-WP Agricultural Insecticide
051036 WA-01-0035 | Endosulfan 3 EC
000352 WA-02-0005 | Oust XP Herbicide
010163 WA-02-0015 | Savey 2E
000524 WA-02-0020 | Mon 78112 Herbicide
000524 WA-02-0023 | Mon 78112 Herbicide
000264 WA-02-0024 | Ignite 1SC Herbicide
069592 WA-03-0016 | Serenade
000264 WA-03-0019 | Admire 2 Flowable
000264 WA-03-0020 | Admire 2 Flowable
000279 WA-04-0002 | Spartan Herbicide
066330 WA-04-0025 | Everest 70% Water Dispersible Granular Herbicide
071111 WA-04-0032 | Moncut 70-DF
002393 WA-04-0035 | Hopkins Zinc Phosphide Pellets
002935 WA-78-0072 | Red Top Superior Spray Oil N.W.
061282 WA-86-0033 | Ramik Brown
061282 WA-86-0034 | Ramik Brown
004581 WA-87-0011 | Des-I-Cate
004581 WA-87-0036 | Des-I-Cate
019713 WA-88-0016 | Drexel Dimethoate 4EC
061282 WA-92-0031 | Ramik Green
002935 WA-92-0045 | Wilbur-Ellis Diazinon 4 Spray
000264 WA-93-0020 | Bayleton 50% Wettable Powder
067837 WA-94-0007 | Omite-CR Agricultural Miticide
010163 WA-95-0004 | Metasystox-R Spray Concentrate
000100 WA-95-0028 | Fusilade DX
000100 WA-95-0029 | Fusilade DX
000400 WA-97-0010 | Comite Agricultural Miticide
005481 WA-97-0015 | Vapam HL Soil Fumigant
002935 WA-97-0027 | Cygon 400 Systemic Insecticide-Miticide
051036 WA-98-0027 | Endosulfan 3 EC
051036 WA-98-0028 | Endosulfan 3 EC
000100 WA-98-0031 | Fusilade DX Herbicide
000100 WA-99-0006 | Warrior T Insecticide
000100 WA-99-0014 | Dividend XL
000100 WA-99-0020 | Tough 5 EC
000279 WI-01-0009 | Aim Herbicide
010163 WI-02-0002 | Moncut 70-DF
059639 WI-96-0007 | Orthene 75 S Soluble Powder
059639 WI-96-0008 | Orthene 75 WSP (insecticide In A Water Soluble Bag)
000100 WI-98-0001 | Reward Landscape and Aquatic Herbicide
007173 WV-77-0005 | Rozol Paraffinized Pellets
061282 WV-84-0004 | Ramik Green
010163 WY-01-0003 | Savey 2E
061282 WY-88-0006 | Ramik Green
000279 WY-97-0004 | Capture 2 EC Insecticide/miticide
005481 WY-99-0004 | Dibrom 8 Emulsive

Section 3 registrations canceled for non-payment of the 2005 maintenance fee are shown in the following table 2:

Table 2.—Section 3 Registrations Canceled for Non-Payment of Maintenance Fee
Registration no. | Product Name
000015-00008 | Hoffman Dog & Cat Repellent
000016-00012 | Blue Dragon Garden Dust
000016-00019 | Dragon 50% Malathion Insect Spray
000016-00027 | Dragon 5% Garden Dust Contains Carbaryl Insecticide
000016-00072 | Dragon Lime Sulfur Solution
000016-00076 | Dragon Sevin Liquid
000016-00091 | Dragon 1% Rotenone Dust
000016-00098 | Dragon 10% Garden Dust Contains Carbaryl Insecticide
000016-00099 | Dragon lawn & Garden 50% Wettable
000016-00111 | Dragon Dipel Dust
000016-00128 | Dragon Rabbit & Dog Chaser
000016-00132 | Dragon Ready to Use Garden Pest Control
000016-00133 | Dragon Thiodan Vegetable & Ornamental Dust
000016-00136 | Dragon Wettable or Dusting Garden Sulphur
000016-00141 | Dragon Thiodan Insect Spray
000016-00154 | Dragon Rotenone Pyrethrin Insect Spray
000016-00158 | Dragon Total Vegetation Killer Formula II
000016-00159 | Dragon All Purpose Fungicide
000016-00160 | Dragon Cygon 2E Systemic Insecticide
000016-00161 | Dragon Horticultural Spray Oil
000016-00164 | Dragon Indoor Insect Fogger
000016-00167 | Dragon Total Release Fogger
000016-00168 | Dragon Wasp & Hornet Killer
000016-00169 | Dragon Rose & Garden Insect Killer
000016-00170 | Dragon Home & Garden Insect Killer
000016-00171 | Dragon Systemic Rose & Flower Care
000016-00173 | Dragon .25% Permethrin RTU
000016-00176 | Carbaryl 80WP (Wettable Powder)
000016-00177 | Turf Protect R Granular Carbaryl Insecticide
000016-00178 | Dragon Carbaryl 4L Concentrate Insecticide
000016-00179 | Dragon Carbaryl 2L Concentrate Insecticide
000016-00182 | Ro-Pel Flygo
000016-00183 | 007 Permethrin Dust
000016-00186 | Dragon Carbaryl 4L Reformulating Insecticide Concentrate
000016-00187 | Dexol Lawn & Garden Insect Control Granules
000099-00083 | Watkins Toilet Bowl Cleanser
000100-00850 | SAN 415 SC32LV
000100-00957 | Action EC Herbicide
000100-00962 | A-11976E Herbicide
000228-00338 | XRM-5202 Premium 8000 Lawn Weed Killer
000228-00415 | Riverdale Tipa-D 4 Herbicide
000239-02406 | Orthene Systemic Insect Spray
000239-02436 | Orthene Insect Spray
000239-02440 | Orthene Ornamental Insect Spray
000239-02618 | Ortho Atrazine Plus St. Augustine Lawn Weeder
000241-00281 | Prowl MC-60 Herbicide
000241-00284 | Prowl WP Herbicide
000241-00353 | Contour Herbicide
000264-00341 | Larvin Thiocarb Insecticide 75 WP
000264-00402 | Standak Technical Aldoxycarb Pesticide
000264-00406 | Larvin SC Thiodicarb Insecticide
000264-00407 | Larvin 250 Thiodicarb Insecticide
000264-00413 | Standak 90MC Aldoxycarb Pesticide
000264-00573 | EXP 31340ATZ Herbicide
000264-00576 | Icon 80 WG Insecticide
000264-00577 | Icon 6.2 FS
000264-00580 | Icon 6.2SC Insecticide
000264-00721 | Guthion 2l Emulsifiable Insecticide
000264-00747 | Turbo 8 EC Herbicide
000402-00093 | San-O-Eight
000432-01125 | Outdoor and Horticultural Emulsion
000432-01146 | 123 M.A.G.
000491-00212 | Selig's Du-Kil Sp
000500-00022 | Boyer Sewer Root Destroyer
000524-00318 | Mon 0139 Technical Solution
000524-00437 | Mon-8750 WSB
000524-00441 | Mon 14420 WSB Herbicide
000524-00490 | Mon-8413 Herbicide
000524-00493 | Mon 58420 Herbicide
000524-00510 | Mon 78102 Herbicide
000524-00513 | Mon 78103 Herbicide
000534-00097 | FS Atrazine 4l Herbicide
000572-00083 | Rockland Horticultural Spray Oil
000572-00098 | Rockland “Penn-Mist” Insecticide
000572-00209 | Rockland Dog & Cat Granular Repellent
000572-00234 | Rockland “H-S” Fly Spray for Horses
000572-00287 | Rockland Pyrenone General Aqueous Insecticide
000572-00301 | Rockland Weed and Grass Killer
000572-00308 | Rockland Weed & Grass Away
000572-00336 | Hormo-Root 4
000572-00337 | Hormo-Root 1
000572-00349 | Hormo Root B
000572-00353 | C-Em-Die II
000675-00015 | Lehn & Fink Instrument Germicide
000773-00067 | Atroban 1% Insecticide
000806-00012 | Avon Authentic S S S Skin So Soft Bug Guard Plus Ir3535 Insect Repel.
000806-00015 | Avon SSS Skin-So-Soft Bug Guard Plus Ir3535 Ins. Rep. SPF 15 Lotion
000833-20004 | Afco Chlorilizer
000935-00039 | ACL 90 Pool and Spa Chlorinating Tablets, One Inch
000935-00045 | Shielded Dry Chlorinating Compound 6″ Sticks
000935-00064 | Towerbrom 60 Granules
000935-00067 | Towerchlor 90 Tablets, One Inch
000935-00070 | Towerbrom 90m, One Inch Tablets
000935-00080 | Acl 90 B Chlorinating Composition
001015-00066 | Douglas 57% Malathion
001083-00001 | Ced-O-Flora Plant Spray
001117-00054 | Nolvacide Insecticide Shampoo
001117-00061 | Nolvamite
001190-00047 | L.G.C.
001190-00048 | P.G.C. 6
001203-00060 | Foremost 4949-ES Weed-A-Way
001386-00114 | Malathion Insect Spray
001386-00143 | Livestock and Barn Fogging Spray
001386-00418 | Py-Vona Stock Fly Spray
001386-00451 | Unico 5% Sevin Dust
001386-00606 | Pyrethrin Multi-Purpose Insecticide
001386-00618 | Dimethoate 267ec Systemic Insecticide
001386-00623 | Trifluralin 10G
001386-00630 | Red Panther Garden Special
001386-00641 | Dipel 110 Dust
001386-00643 | Red Panther MSMA Liquid
001386-00644 | Red Panther “panther Juce”
001386-00645 | Red Panther Super Juce
001386-00650 | Agway Livestock & Farm Spray II
001386-00655 | Security Sevin Bait
001386-00656 | Security Dipel Liquid Worm Spray Biological Insecticide
001386-00657 | Security Brand De-Flea-Flea & Tick Spray
001386-00658 | Agway Aqueous Garden Spray
001386-00662 | Kleenwalk
001459-00028 | Bullen Disinfectant Cleaner & Odor Counteractant
001459-00084 | Activ VIII 640
001475-00042 | Enoz Cedar-Ize Moth Cake
001475-00069 | Enoz Cedar Scented Mildew Cake
001475-00094 | Enoz Moth Blok
001475-00121 | Enoz Plastic Hang-Up Moth Case
001475-00122 | Enoz Moth & Deodorant Cakes Perfumed Refills for Hang-Up Plastic Case
001475-00126 | Enoz Cedar Pine Closet Freshener
001475-00127 | Lemon Scented Closet Freshener
001486-00026 | Micro-Chek 25 S-711
001561-00009 | Steramine 3-Q Tablets
001574-00003 | Stanley Moth Cake
001574-00004 | Stanley Perfumed Crystals
001719-00012 | Blp Jack Tar Marine Fin V-I-P Cold Plastic Anti-Foul 473-71
001719-00015 | Blp Jack Tar Marine Fin Dub-L-Cop Copper Paint Navy 16-X 473-74
001719-00040 | Jack Ta Dub-L-Cop Copper Bottom Paint 473-38 Blue
001769-00104 | Chem Fog Concentrate
001910-00003 | Fly Repellent Gell
002212-00005 | Legphene
002393-00461 | F & B Tuberseptic
002792-00035 | Citrus Lustr 213 with Fungicide
002792-00036 | APL Lustr-256 with Fungicide
002792-00052 | Decco 253 Sanitizer Concentrate
002792-00056 | Deccosan 320
002792-00068 | Agclor 310A
002935-00388 | Diazinon 4 Spray
003008-00080 | Evipol 60 SL
003095-00075 | Pic Super Strong Roach Control System
003342-00095 | Worm Whipper Bacillus Thuringiemsis
003522-00013 | Luseaux Lu-Tabs
003573-00064 | Ultra Spic and Span
003862-00124 | Non-Residual Insecticide Spray
004482-00010 | Q-Lab Spray Cleaner
004581-00206 | Des-I-Cate
004582-00066 | CPL Institutional Ajax Disinfectant Cleanser
005011-00060 | Formula GH-18
005202-00023 | Brogdex 597-F
005202-00024 | Brogdex 598-F
005202-00026 | Brogdex 594-F
005449-00010 | B-Q 32 Pine Odor Disinfectant
005481-00225 | Technical Lindane
005481-00415 | PCNB Disulfoton Granules 6.5-6.5
005602-00192 | V-34-74
005602-00200 | A-41 20% DDVP Insecticide
005693-00077 | Shield Total Release Fogger V
005792-00002 | Cuprous Oxide
005905-00262 | Diazinon 14g Granular Insecticide
005905-00418 | Helena End-O-Sulfan 3 E.C. Insecticide
005905-00474 | Helena Diazinon 7E
005905-00526 | Diazinon 50 WP
006186-00043 | D-C Disinfectant
006325-00020 | Microfine Sulfur
006325-00021 | Sunbelt Wettable Sulfur
007053-00028 | Fremont 9111
007152-00017 | Seaboard Jolt-It Shock Treatment
007245-00023 | Sodium Hypochlorite Solution
007267-00005 | Savol Shock Treatment
007350-00002 | Chaska-San Disinfectant-Bactericide-Alkaline Detergent
007405-00066 | 214 Insect Spray
007501-00017 | Gustafson Thiram-30 Fungicide
007501-00064 | Evershield T Seed Protectant
007501-00068 | Gustafson Flo Pro D Seed Protectant
007501-00117 | Moly-T
007501-00123 | Liquid Moly-Co-THI
007501-00125 | Liquid Moly-THI Concentrate
007501-00181 | Storcide E.C.
007969-00070 | Polyram 80 WP Fungicide
008596-00029 | Grain Savor
008709-00003 | Algae Destroyer for Fresh Water Aquariums
008709-00004 | Algae Destroyer Liquid
008709-00005 | Algae Destroyer for Ponds
008709-00006 | Pond Care Algae Blocker
008709-00007 | Herbal Aphid Control
008730-00053 | Hercon Insectape with Propoxur
008730-00059 | Hercon Disrupt PTB
008959-00003 | Cutrine Granular Algaecide
008996-20002 | Sierra Pure Chlor 10%
009152-00020 | Biodisan
009359-00001 | Algaecide (10%)
009359-00025 | Algaecide II (5.0%)
009359-00026 | Algae Rid (2.5%)
009386-00036 | Tetramet-TR
009404-00072 | St. Augustine Lawn Weed Killer (40.8% Flowable Atrazine)
009404-00085 | Citrus & Ornamental Insect Spray
009591-00124 | Pro Kill Expel Roach and Ant Killer
009591-00169 | Prokill Choice
009886-00007 | Unipine S
009886-00009 | Unipine NCL
010163-00074 | Prokil Ziram 76 WP
010163-00090 | Prokil Ziram 87.3 WP
010163-00106 | Gowan Ziram 76 WDG
010163-00129 | Prokil Ziram 87.3 WSB
010163-00151 | Gowan Ziram 76
010163-00158 | Gowan Chlorpyrifos 4E
010292-00010 | Venus 106 Bowl & Porcelain Cleaner
010292-00014 | Lemon Odor Disinfectant Cleaner
010292-00041 | Sani Shop Root Killer
010693-00001 | Quaternary Germicidal Cleaner
010772-00006 | Clean Shower
010778-00002 | Vaporene W-10
010906-00001 | Rootout (for Killing Roots In Sewers)
011292-00007 | Quat Sanitizer Rinse
011515-00036 | Superior No.402 Weed Killer Water Soluble
011558-00016 | Propionic Acid
011625-00001 | Moly-Soy-A-Live Seed Protectant
011667-00005 | Propionic Acid
011678-00025 | Thionex Endosulfan 35 E.C.
011678-00056 | Trichodex
011715-00347 | Security Brand Purge 2 Lawn Weed Killer
011746-00041 | Davis Kill-A-Bug S2
012455-00019 | Ditrac Rat and Mouse Bait
012455-00029 | Ditrac Rat and Mouse Bait Ready To Use
012455-00078 | Ditrac Rat and Mouse Bait
015035-00001 | Perfecto Germicide Concentrated Dental and Surgical Instrument Disinfectant
017004-00003 | Pipco Dish-San
017545-00002 | Cotton-Aide HC
017545-00003 | Montar
019713-00412 | Drexel Metolachlor Technical
021164-00008 | Akta Klor 15
022950-00006 | Cobra Mosquito Coils
023563-00001 | Mur Kil
028293-00239 | Unicorn Diazinon 14g Granular Insecticide
028293-00272 | Unicorn 1.5% Granular
029909-00029 | Cardinal Insecticide Repellent Spray for Horses
029909-00034 | Cardinal Rid Flea and Tick Spray
030950-00008 | Raticida Bait Pellets Kills Rats and Mice
033660-00036 | Vln Trifluralin Technical
034282-00002 | Quat Klean
034704-00430 | Captan 80 WP
034704-00431 | Captan 80 WDG
034704-00799 | Endosulfan Technical
034797-00002 | Flea + Tick Spray
034797-00019 | Copper Sulfate Root Killer
034797-00045 | Dionne Insecticide Spray Concentrate
034797-00049 | Dionne Insecticide with Resmethrin
034797-00052 | Dionne Germicidal Detergent Sanitizer
034797-00060 | Dionne Horse Wipe E.C.I
034797-00061 | Dionne Insecticide Spray Concentrate II
034797-00064 | Dionne General Purpose Residual Spray Insecticide
034797-00068 | Qualis Flea and Tick Killer Carpet Dust
034797-00069 | Qualis Concentrated Pyrethrins
034797-00075 | Canine Parvo Virus Disinfectant
034797-00079 | Aqueous Pressurized Resmethrin Spray Insecticide 0.5%
034797-00080 | Resmethrin Liquid Insecticide Spray 0.5%
034797-20203 | Qualis Boric Acid Powder
035138-00081 | Aero Lawn Granules
035917-00002 | Pentapure Water Purification Disinfection Resin
036284-00003 | Clearview Granular Chlorinating Concentrate
036488-00019 | Ringer Japanese Beetle Bait (floral Lure)
036488-00020 | Ringer Japanese Beetle Sex Attractant
036993-00002 | Crystal Klear
037365-20001 | AST Inc. Chlorinated Sanitizer
037428-00001 | Dichloro Chlorinating Granules
037507-00002 | Gibberellic Acid 5% Powder
039183-00013 | Bio-Syn CR-125
039272-00004 | Wepak Kreme Kleanser
040208-00004 | Crack-Shot Multipurpose Insecticide Spray
041294-20001 | Aqua Chlor
042052-20002 | Buckman's 10% Sodium Hypochlorite Solution
042056-00011 | Kernel Guard
042056-00015 | TCI Mancozeb-Lindane Seed Treatment
042056-00016 | TCI Mancozeb-Lindane Ready-To-Use Seed Treatment
042056-00018 | TCI Captan-Diazinon Seed Treatment
042177-00016 | Olympic Dy-Chlor II
042613-20001 | Indo-Clor
042697-00038 | Safer Brand Home Pest Insect Killer II
043917-00002 | Spira Punks Mosquito Coils
043917-00009 | Spira Punks Mosquito Coils II (formula I)
043922-00005 | Roman Cleanser Bleach
043922-20004 | Sta Bright Bleach Laundry Destainer
045443-00001 | Reese Clip-On Young Tree Insulator with Insect Repellent
045600-00018 | Insecta Roach Killer
045655-00001 | High-Po-Chlor Bulk Sodium Hypochlorite Solution
046028-00008 | CMB-2870
046183-00003 | Sani Way 75
046183-00004 | Sani-Way 175
046257-00001 | Council-Oxford Soluble Spray Oil
046781-00009 | Diacide Hd Disinfecting Solution
046851-00011 | Prophene
047250-20002 | Aquatech Supurr Shock Chlorinating Solution
049256-00001 | Chlorine Liquified Gas Under Pressure
049517-00008 | Oxy Soduim Chlorate Technical Grade
049756-00001 | Liquefied Chlorine Gas Under Pressure
050096-00001 | Wipex
050600-00008 | Acidize DS-10
050675-00008 | APM-Rope
050956-00004 | Sask Chem 70
051036-00009 | Micro Flo Atrazine 80W Herbicide
051036-00070 | Micro Flo Diazinon 14G
051036-00091 | Endosulfan 50W
051036-00092 | Endosulfan 3 EC
051036-00093 | Micro Flo Diazinon 5G AG
051036-00159 | Micro Flo Atrazine 80W Herbicide
051036-00209 | Endosulfan 50W Solupack
051036-00377 | Triclopyr Ester 4A Rangeland
051036-00404 | Picloram Acid Technical
051036-00414 | Picloram K-Salt Technical
051036-00419 | Picloram Tipa Technical
051354-20001 | Sun Guard 15
051517-00005 | Foliar Triggrr MFG
051517-00006 | Soil Triggrr MFG
051946-00001 | Compound X
053254-00005 | Oxidan TCA Sticks
053254-00007 | Oxidan TCA/T20 Tablets
053254-00009 | Oxidan TCA/T500 Tablets
053254-00010 | Oxidan TCA Granular Shock Treatment
053254-00011 | Oxidan TCA Granular Algicide Treatment
053254-00012 | Oxidan DCN/WSG Granular
053345-00011 | Technical Sodium Chlorite
053345-00013 | Ercopure
053575-00021 | Isomate-BAW Pheromone
054135-00001 | Chlorine Liquified Gas Under Pressure
055585-00001 | Flamingo Mosquito Coils (with Pyrethrins) (formula 1)
055585-00003 | Flamingo Mosquito Coils (with Bioallethrin) Formula 3
055714-00001 | Corrosive Sodium Hypochlorite Solution
056097-00001 | P.A.S.-V Insecticide
056485-00001 | Dl-1541
057351-20001 | Brite 1500
057476-20001 | Aqua Chlor
059055-00001 | Duozon 100-L
059894-00005 | Kwikkill
060061-00080 | Alumacoat II
060066-00001 | Dr. Dogkatz's Critter Chaser Shampoo
061282-00032 | Hopkins Warfarin Pellets Rat and Mouse Killer
061282-00034 | Hopkins Snail and Slug Pellets containing 2.75% Metaldehyde
061282-00035 | Hopkins Zinc Phosphide Mouse Bait for Control of Mice In Orchards
061282-00042 | Crown “Pest Rid Brand” .5% Coated Warfarin Anti-Coagulant Concentrate
061483-00007 | Creosote Oil 24 CB
061807-00001 | Algae Fighter 40
062207-00005 | Fox-Chlor Plus
062207-00006 | Fox-Chlor
062353-00002 | Hy-Q-75
062353-00003 | Hy-Q-75-SP
062451-00006 | Antguard for Irrigation Systems
062644-00001 | King Pine Brand Disinfectant
062719-00117 | Balan LC 16.3%
063243-00005 | Bio-Dynamic(r) Residential Chlorinating Cartridge
063588-00005 | Bolero 10G
063761-00004 | Ultra Kleen Powder for Dental Water Lines
064321-00008 | Bio Kill Dust Brand Insecticide
064439-00001 | Mole-Med
064439-00003 | Mole Med Dry
064865-00001 | Dynogen
065359-00002 | Ecobrite 1 Ready-To-Use Fungicide
065434-00001 | Equipment Sanitizer
065458-00004 | Bactec Bt 32
065481-00001 | Hi-Lex 6-40 Disinfectant-Sanitizer
065890-00002 | Chlorine Liquified Gas Under Pressure
065901-00002 | Mineralix Fly Control Tub
065906-00002 | Roach Snax
066190-00001 | Plant Pro-Tec (garlic) Units
066222-00002 | Endosulfan (thionex) 50W
066222-00031 | Cotoran 80w Herbicide
066222-00069 | Turf! EZ
066222-00070 | Alachlor Technical
066222-00071 | Shroud Herbicide
066222-00078 | 2,4-DB Acid Technical
066306-00012 | Safari Insect Repellent
066330-00014 | Captan 5 Potato Seed Protectant Fungicide
066330-00015 | Captan 10 Potato Seed Protectant Fungicide
066330-00019 | Isotox Seed Treater (F)
066330-00021 | Captan Moly Soybean Seed Protectant (2X)
066330-00025 | Captan 75 Seed Protectant Fungicide
066330-00030 | Captan 75WDG
066330-00032 | Captan Technical
066330-00034 | Captan 90 Dust Base
066433-00001 | Oak Stump Farm Japanese Beetle Lure
066451-00001 | Westcide 3096
066544-00001 | Promac 2000SB
066544-00004 | Promac 2000PB
066591-00005 | Copper-Green Plus Wood Preservative
066777-00001 | Gycorine
066923-00001 | Insecolo
067238-00003 | Keepout
067416-00001 | Chlorine Liquified Gas Under Pressure
067425-00002 | Ecopco D Dust Insecticide
067425-00004 | Ecopco AC Contact Insecticide
067503-00004 | Smite 25 WP
067517-00036 | Dual Gard Insecticide Cattle Ear Tags
067589-20004 | Sani-Select Warewash Sanitizer
067760-00004 | Cheminova Fyfanon 8EC Insecticide
067760-00016 | Fyfanon 25 WP
067760-00027 | Nufos 4E-SG
067760-00041 | Cythion Insecticide RTU
067898-00001 | F-105 Cold Plastic Red Antifouling Mil-P-19451 B
067959-00005 | Trilin HG
068158-00003 | Iodine Cartridge Release System
068329-00007 | Alpha 544
068329-00008 | Alpha 560
068333-00001 | Rush Wasp & Hornet Killer
068497-00001 | Flea Away
068506-00001 | Uvatek
068575-00001 | Palene 610-C
068719-00003 | Vita Grow Concentrated Rooting Compound
068843-00001 | The Flea Terminator II
069151-00002 | Steritech BD-20
069204-00001 | TK-10
069840-00002 | Counter Wipe
070051-00028 | Azatin 4.5WP
070051-00064 | Trident
070051-00082 | Raven
070051-00094 | Lepinox XL of
070060-00006 | Aseptrol WTS-7.05
070060-00018 | Aseptrol S2-Tab
070258-00001 | Urnex Sani-Pure Sanitizer & Cleaner
070341-00001 | A-9497b Marketed As Last Call CM
070341-00002 | Last Call OFM
070341-00003 | Last Call CMH & G
070341-00004 | Last Call Eucosmak
070371-00001 | Yippee Pet Shampoo
070465-00002 | Xbinx 50W
070506-00028 | Devrinol 2-E Ornamental Selective Herbicide
070508-00001 | Power Herbal Disinfectant
070799-00002 | Formula 219 Sure-Kil Selective Weed Killer
070799-00003 | 797-A State Powdered Insecticide
070799-00004 | Formula 297 Algaecide
070799-00005 | Formula 64-A Vaporcide
070799-00006 | Formula 410 Algaecide
070799-00011 | State Formula 444 Kling N' Kill
070852-00001 | AGC 0.1 AG
070852-00002 | AGC 0.3 AG
070852-00003 | AGC 0.4 AG
070852-00004 | AGC 0.05 AG
070852-00005 | WJC 2002
070933-00001 | MLS Fly Control Tub
070950-00001 | Avachem Sucrose Octanoate Manufacturing Use Product
071082-00001 | Unisept
071085-00013 | Propanil 60 DF
071253-00001 | Bio Bug Insect Repellent
071258-00001 | 455 Soluble Oil
071280-00001 | Cuprous Chloride Technical
071280-00003 | Migratrol R001
071280-00005 | Root Right Container
071332-00001 | Microsil (models 7300,7301,7302)
071332-00002 | Microcarb (models 7500,7501)
071654-00003 | Dupont Formulation A
071654-00004 | Dupont Formulation B
071840-00004 | Subtilex HB
071943-00001 | Nouguard(tm)
072106-00001 | Evergreen Lawn Food with Moss Control_12-2-2
072139-00001 | Insta-Chlor
072451-00002 | Mstrs BHFW
072451-00005 | Mstrs SS
072594-00001 | Doc's Clone Gel
072662-00001 | Prasitex
072670-00001 | Bushwhacker Fire Ant, Roach, Weevil and Termite Control
072874-00003 | Towersafe
072874-00004 | Surfguard
073175-00001 | Bee-Gone Wasp & Hornet Killer
073406-00001 | New Concept
073478-00001 | Bleach Wipe
073601-00006 | Millennium II
073601-00007 | Millenium I
073683-00001 | Kuriverter EC 03
073683-00002 | Kurita F-5100
073882-00001 | Acrilan Additive Chi
074160-00001 | Targa Biological Larvicide Wettable Powder
074320-00002 | RB-62 Chlor
074320-00004 | RB-65 Hypo Chlor
074395-00002 | Materia Olr Technical Pheromone
074395-00003 | Materia (e)-11-Tetradecenyl Acetate Technical Pheromone
074411-00001 | Technical Trypsin Modulatng Oostatic Factor (tmof)
074413-00001 | Xmax Ant Killer Sweet Ant Bait Gel
074517-00002 | Zydox AD 20 31.25
074602-00004 | Verox-Gfp
074627-00003 | Nab 2.4 ME Insecticide
074785-00001 | Bio-Plant Products Ant and Roach Protection
074910-20001 | Sparkhlor
075174-00001 | Sis 7200
075174-00003 | Sis Am 500 I
075273-00002 | Victoria's Garden Outdoor Mosquito Coil Set
075291-00001 | Pure Blue Primo
075338-00001 | CFT Legumine
075636-00003 | Coc-Sil-105
075636-00005 | Coc-Sil-02
075636-00010 | Type Col-Sil-105
075636-00011 | Type: Col-Sil-02
079660-20001 | Sodium Hypochlorite 15
079660-20002 | Sodium Hypochlorite 10
079660-20003 | Sodium Hypochlorite 12
079753-00002 | Same Stuff
079753-00003 | Heavy Stuff
080798-00001 | Best FX
080867-00001 | Sweet'n' Bale

IV. Public Docket

Complete lists of registrations canceled for non-payment of the maintenance fee will also be available for reference during normal business hours in the OPP Public Docket, Room 119, Crystal Mall #2, 1801 S. Bell St., Arlington VA, and at each EPA Regional Office Product-specific status inquiries may be made by telephone by calling toll-free 1-800-444-7255.

List of Subjects

Environmental protection, fees, pesticides and pests

Dated: July 19, 2005.
James Jones,
Director, Office of Pesticide Programs.

[FR Doc. 05-15145 Filed 8-2-05; 8:45 a.m.]

BILLING CODE 6560-50-S